MISSISSIPPI RIVER COMMISSION

Sunshine Act Meetings

Correction

In notice document 05-4818 appearing on page 12019 in the issue of Thursday, March 10, 2005, make the following correction:

In the second column, in the second line from the top, under MATTERS TO BE CONSIDERED, in the eighth line, “Vicksburg” should read “Memphis.”

[FR Doc. C5-4818 Filed 3-17-05; 8:45 am]

BILLING CODE 1505-01-D

DEPARTMENT OF TRANSPORTATION

Federal Aviation Administration

14 CFR Part 71

[Docket No. FAA-2004-19581; Airspace Docket No. 04-ACE-71

Establishment of Class E2 Airspace; and Modification of Class E5 Airspace; Ankeny, IA

Correction

In rule document 05-4654 beginning on page 11853 in the issue of Thursday, March 10, 2005, make the following corrections:

§ 71.1 [Corrected]

1. On page 11854, in the first column, in § 71.1 under the heading ACE IA E2 Ankeny, IA, in the seventh line, “0.46°” should read “046°.”

2. On the same page, in the second column, in the same section, in the sixth line from the top, “7600” should read “700.”

[FR Doc. C5-4654 Filed 3-17-05; 8:45 am]

BILLING CODE 1505-01-D